DEPARTMENT OF COMMERCE

Submission for OMB Review; Comment Request

DOC has submitted to the Office of Management and Budget (OMB) for clearance of the following proposal for collection of information under the provisions of the Paperwork Reduction Act of 1995, Public Law 104-13.

Bureau: International Trade Administration.

Title: Mission/Exhibition Evaluation.

Agency Form Number: ITA-4075P.

OMB Number: 0625-0034.

Type of Request: Regular submission.

Burden: 167 hours.

Number of Respondents: 2,000.

Avg. Hours Per Response: 5 minutes.

Needs and Uses: U.S. Department of Commerce (DOC) and DOC-certified trade missions and exhibitions are overseas events planned, organized and led by government and non-government export promotion agencies such as industry trade associations, agencies of Federal, state and local governments; chambers of commerce; regional consortia; and other export oriented groups. This form is used to: (1) Evaluate the effectiveness of DOC or DOC-certified overseas trade events through the collection of information relating to required performance measures; (2) document the results of participation in DOC trade events; (3) evaluate results reported by small to mid-sized, new-to-exports/new-to-market U.S. companies; (4) document the successful completion of trade promotion activities conducted by overseas DOC offices; and (5) identify strengths and weaknesses of DOC trade promotion programs in the interest of improving service to the U.S. business community. This request is being submitted to extend OMB authority for this information collection form to enable participants to continue to address whether or not their overall objective(s) were met by participating in a particular trade mission or exhibition.

Affected Public: Business or other for profit, not-for-profit institutions.

Frequency: On occasion.

Respondent's Obligation: Required to obtain or retain a benefit, voluntary.

OMB Desk Officer: David Rostker, (202) 395-7340.

Copies of the above information collection can be obtained by calling or writing Diana Hynek, Departmental Paperwork Clearance Officer, Department of Commerce, Room 6612, 14th & Constitution Avenue, NW., Washington, DC 20230. Phone Number: (202) 482-3129. E-mail: dHynek@doc.gov.

Written comments and recommendations for the proposed information collection should be sent to David Rostker, OMB Desk Officer, David_Rostker@omb.eop.gov or fax (202) 395-7285, within 30 days of the publication of this notice in the Federal Register.

Dated: July 6, 2005.
Madeleine Clayton,
Management Analyst, Office of the Chief Information Officer.

[FR Doc. 05-13596 Filed 7-11-05; 8:45 am]

BILLING CODE 3510-FP-P